CORPORATION FOR NATIONAL AND COMMUNITY SERVICE

Proposed Information Collection; Comment Request

AGENCY: CNCS.

ACTION: Notice.

SUMMARY: The Corporation for National and Community Service (CNCS), as part of its continuing effort to reduce paperwork and respondent burden, conducts a pre-clearance consultation program to provide the general public and federal agencies with an opportunity to comment on proposed and/or continuing collections of information in accordance with the Paperwork Reduction Act of 1995 (PRA95) (44 U.S.C. Sec. 3506(c)(2)(A)). This program helps to ensure that requested data can be provided in the desired format, reporting burden (time and financial resources) is minimized, collection instruments are clearly understood, and the impact of collection requirement on respondents can be properly assessed.

Currently, CNCS is soliciting comments concerning its proposed renewal of the CNCS Forbearance Request for National Service Form (OMB#3045-0030). The CNCS Forbearance Request for National Service Form (OMB#3045-0030) is used to certify that AmeriCorps members are eligible for forbearance based on their enrollment in a national service position. AmeriCorps members use the form to request forbearance.

Copies of the information collection request can be obtained by contacting the office listed in the ADDRESSES section of this Notice.

DATES: Written comments must be submitted to the individual and office listed in the ADDRESSES section by May 9, 2016.

ADDRESSES: You may submit comments, identified by the title of the information collection activity, by any of the following methods:

(1) By mail sent to: Corporation for National and Community Service, National Service Trust; Attention: Nahid Jarrett, Trust Officer, 250 E Street SW., Suite 300, Washington, DC 20525.

(2) By hand delivery or by courier to the CNCS mailroom at the mail address given in paragraph (1) above, between 9:00 a.m. and 4:00 p.m. Eastern Time, Monday through Friday, except Federal holidays.

(3) By fax to: 202-606-3484, Attention: Nahid Jarrett.

(4) Electronically through www.regulations.gov.

Individuals who use a telecommunications device for the deaf (TTY-TDD) may call 1-800-833-3722 between 8:00 a.m. and 8:00 p.m. Eastern Time, Monday through Friday.

FOR FURTHER INFORMATION CONTACT: Nahid Jarrett, 202-606-6753, or by email at njarrett@cns.gov.

SUPPLEMENTARY INFORMATION: CNCS is particularly interested in comments that:

• Evaluate whether the proposed collection of information is necessary for the proper performance of the functions of CNCS, including whether the information will have practical utility;

• Evaluate the accuracy of the agency's estimate of the burden of the proposed collection of information, including the validity of the methodology and assumptions used;

• Enhance the quality, utility, and clarity of the information to be collected; and

• Minimize the burden of the collection of information on those who are expected to respond, including the use of appropriate automated, electronic, mechanical, or other technological collection techniques or other forms of information technology (e.g., permitting electronic submissions of responses).

Background

CNCS supports programs that provide opportunities for individuals who want to become involved in national service. The service opportunities cover a wide range of activities over varying periods of time. Upon successfully completing an agreed-upon term of service in an approved AmeriCorps program, an AmeriCorps member receives an education award.

Current Action

CNCS seeks to renew the current information collection request CNCS Forbearance Request for National Service Form, which certifies that AmeriCorps members are eligible for forbearance based on their enrollment in a national service position. AmeriCorps members use the form to request forbearance from their loan servicer.

CNCS also seeks to continue using the current form until the revised application is approved by OMB. The current application is due to expire on March 31, 2016.

Type of Review: Renewal.

Agency: CNCS.

Title: CNCS Forbearance Request for National Service Form.

OMB Number: 3045-0030.

Agency Number: None.

Affected Public: AmeriCorps members and alumni that wish to request forbearance on qualified student loans and qualified loan servicers.

Total Respondents: 69,300.

Frequency: One or more per education award.

Average Time per Response: Averages 5 minutes.

Estimated Total Burden Hours: 5,775.

Total Burden Cost (capital/startup): None.

Total Burden Cost (operating/maintenance): None.

Comments submitted in response to this notice will be summarized and/or included in the request for Office of Management and Budget approval of the information collection request; they will also become a matter of public record.

Dated: March 4, 2016.
Maggie Taylor-Coates,
Chief of Trust Operations.

[FR Doc. 2016-05348 Filed 3-9-16; 8:45 am]

BILLING CODE 6050-28-P